DEPARTMENT OF HOMELAND SECURITY

Coast Guard

33 CFR Part 117

[Docket No. USCG-2013-0176]

Drawbridge Operation Regulations; Saugus River, Saugus and Lynn, MA

AGENCY: Coast Guard, DHS.

ACTION: Notice of temporary deviation from regulations.

SUMMARY: The Coast Guard has issued a temporary deviation from the regulation governing the operation of the Route 107 temporary bridge across the Saugus River, mile 2.5, between Saugus and Lynn, Massachusetts. The bridge will not open for vessel traffic during the installation of the moveable span. This deviation allows the bridge to remain closed for six days.

DATES: This deviation is effective from April 1, 2013, until April 6, 2013.

ADDRESSES: Documents mentioned in this preamble as being available in the docket are part of docket USCG-2013-0176 and are available online at www.regulations.gov, inserting USCG-2013-0176 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Mr. John McDonald, Project Officer, First Coast Guard District, telephone (617) 223-8364, john.w.mcdonald@uscg.mil. If you have questions on viewing the docket, call Barbara Hairston, Program Manager, Docket Operations, telephone 202-366-9826.

SUPPLEMENTARY INFORMATION: The Route 107 temporary bridge, across the Saugus River, mile 2.5, between Saugus and Lynn, Massachusetts, has a vertical clearance in the closed position of 6 feet above mean high water and 15 feet above mean low water. The bridge is required to open on signal at all times in accordance with 33 CFR 117.5.

The waterway is transited by recreational and commercial fishing boats.

The lift span at the new bridge will be installed between April 1, 2013, and April 6, 2013. During that time period the span will be in the closed position. Once the construction of the lift span is completed the draw will be placed in the full open position until all the operating machinery is installed.

The upstream facilities and the fishermen were advised regarding the six day closure. No objections were received.

Under this temporary deviation the Route 107 temporary bridge may remain in the closed position from April 1, 2013 through April 6, 2013.

In accordance with 33 CFR 117.35(e), the bridge must return to its regular operating schedule immediately at the end of the designated time period. This deviation from the operating regulations is authorized under 33 CFR 117.35.

Dated: March 18, 2013.
Gary Kassof,
Bridge Program Manager, First Coast Guard District.

[FR Doc. 2013-07151 Filed 3-27-13; 8:45 am]

BILLING CODE 9110-04-P